DEPARTMENT OF TRANSPORTATION

Federal Aviation Administration

Notice of Intent To Rule on Request To Release Airport Land at Calexico International Airport, Calexico, CA

AGENCY: Federal Aviation Administration, Department of Transportation.

ACTION: Notice of request to release airport land.

SUMMARY: The Federal Aviation Administration (FAA) proposes to rule and invites public comment on the release of approximately 13.44 acres of airport property at Calexico International Airport, Calexico, California, from all conditions in the grant agreement since the land is not needed for airport purposes. Reuse of the land for commercial purposes represents a compatible land use. Disposal of the property will provide an opportunity to acquire additional land that is needed for airport development and to meet airport design standards.

DATES: Comments must be received on or before October 16, 2006.

ADDRESSES: Comments on this application may be mailed or delivered in triplicate to the FAA at the following address: Federal Aviation Administration, Airports Division, Federal Register Comment, 15000 Aviation Blvd., Lawndale, CA 90261. In addition, one copy of the comment submitted to the FAA must be mailed or delivered to Luis Estrada, Airport Manager, Calexico International Airport, 608 Heber Avenue, Calexico, CA 92231.

FOR FURTHER INFORMATION CONTACT: Tony Garcia, Airports Compliance Specialist, Federal Aviation Administration, Airports Division, 15000 Aviation Blvd., Lawndale, CA 90261, telephone (310) 725-3634 and FAX (310) 725-6849. For airport-specific information regarding the release, contact Mr. Luis Estrada, Airport Manager, Calexico International Airport, at the above address or telephone (760) 768-2175.

SUPPLEMENTARY INFORMATION: In accordance with the Wendell H. Ford Aviation Investment and Reform Act for the 21st Century (AIR 21), Public Law 10-181 (Apr. 5, 2000; 114 Stat. 61), this notice must be published in the Federal Register 30 days before the Secretary of Transportation may waive any condition imposed on a federally obligated airport by the assurances in grant agreements.

Brief Overview of the Request

The City of Calexico requested a release from grant assurance obligations for approximately 13.44 acres of airport land consisting of a parcel of vacant, undeveloped land on the south side of the airport. The parcel is separated from the airfield by a public road and is located between Anza Road and the Mexican border. Since the property is not contiguous to the airfield, the property is not needed for airport purposes and cannot be used for aeronautical activities. Following the sale, the property's redevelopment for non-aeronautical purposes will comply with local zoning and compatible land-use requirements. The parcel will be sold at fair market value based on the land's appraised value. The proceeds from the sale of the land will be used to acquire additional land adjacent to the airfield, which is needed for airport development, including a new terminal, an aircraft ramp, and auto parking. The land disposal and acquisition will provide a direct benefit to the airport and civil aviation.

Issued in Hawthorne, California, on August 9, 2006.
George Aiken;
Manager, Safety and Standards Branch, Airports Division, Western-Pacific Region.

[FR Doc. 06-7633 Filed 9-13-06; 8:45 am]

BILLING CODE 4910-13-M